DEPARTMENT OF THE TREASURY

Departmental Offices; Privacy Act of 1974; Altered Systems of Records

AGENCY: Departmental Offices, Treasury.

ACTION: Notice of Alterations to Twelve Privacy Act Systems of Records.

SUMMARY: In accordance with the requirements of the Privacy Act of 1974, as amended, 5 U.S.C. 552a, the Department of the Treasury gives notice of proposed alterations to twelve Privacy Act systems of records. The proposed alterations will update existing notices and conform them to the requirements of the Office of the Federal Register. The Department also gives notice of the deletion of a Privacy Act system of records.

EFFECTIVE DATE: The proposed alterations will become effective without further notice on October 2, 2000, unless comments dictate otherwise.

ADDRESSES: Comments should be sent to Disclosure Services, Department of the Treasury, 1500 Pennsylvania Avenue, NW, Washington, DC 20220, or by fax at (202) 622-3895.

FOR FURTHER INFORMATION CONTACT: Dale Underwood, Deputy Assistant Director, Disclosure Services, (202) 622-0874.

SUPPLEMENTARY INFORMATION: As a result of a compliance review, the Department found that the following eight Privacy Act systems of records notices should be revised by adding a “Purpose(s)” statement to conform the notices to the format required by the Office of the Federal Register.

Treasury/DO .005—Grievance Records;

Treasury/DO .010—Office of Domestic Finance, Actuarial Valuation System;

Treasury/DO .060—Correspondence Files and Records on Employee Complaints and/or Dissatisfaction;

Treasury/DO .149—Foreign Assets Control Legal Files;

Treasury/DO .156—Tax Court Judge Applicants;

Treasury/DO .183—Private Relief Tax Bill Files;

Treasury/DO .193—Employee Locator and Automated Directory System, and

Treasury/DO .200—FinCEN Data Base.

The list of the bureaus and other components of the Department published in 31 CFR 1.20 was revised on January 14, 2000 (65 FR 2333). Three Treasury-wide systems of records notices (DO .005, DO .210, DO .211) are being updated to make the “system location” consistent with the revision and to add the street addresses to the bureau locations.

The list of the system managers and addresses for Treasury/DO .005—Grievance Records is also being revised due to changes in addresses and reorganizations within the Department, and to reformat the list of the system managers by bureau.

In addition, the notice published on December 17, 1998, did not identify the correct system manager for Treasury/DO .060—Correspondence Files and Records on Employee Complaints and/or Dissatisfaction.

Treasury/DO .190—General Allegations and Investigative Records is amended to change the title to “Investigation Data Management System,” and to make changes in the system locations and a change in the address of the system manager. Two system locations, New York, NY and Glynco, GA, are being deleted, and four system locations, San Diego, CA; Miami, FL; Marlton, NJ; and Alexandria, VA, are being added.

A review of Treasury/DO .191—OIG Management Information System (MIS) found that the title did not accurately reflect the categories of records in the system and is being renamed: “Human Resources and Administrative Records System.” Appendix A, Addresses of OIG offices, is also amended to reflect current system locations. In addition, the title of the OIG system manager is being changed in the following two Treasury-wide system notices:

Treasury/DO .210—Treasury Integrated Financial Management and Revenue System, and

Treasury/DO .211—Telephone Call Detail Records.

The review found that the Department no longer maintains the records subject to Treasury/DO .068—Time-In-Grade Exception Files. Consequently, the system of records is being deleted effective August 31, 2000.

Because the described alterations are not considered significant, the reporting requirements of subsection (r) of the Privacy Act of 1974 do not apply. The proposed alterations to the Treasury systems of records are set forth below.

Dated: August 15, 2000.
Shelia Y. McCann,
Deputy Assistant Secretary, (Administration).

Treasury/DO .005

System name:

Grievance Records—Treasury/DO.

Description of change: Remove the current entry and add the following:

System Location:

Department of the Treasury, 1500 Pennsylvania Ave., NW, Washington, DC 20220. These records are located in personnel or designated offices in the bureaus in which the grievances were filed. The locations at which the system is maintained are:

(1)a. Departmental Offices (DO): 1500 Pennsylvania Ave., NW, Washington, DC 20220.

b. The Office of Inspector General (OIG): 740 15th Street, NW, Washington, DC 20220.

c. Treasury Inspector General for Tax Administration (TIGTA): 1111 Constitution Ave., NW, Washington, DC 20224.

(2) Bureau of Alcohol, Tobacco and Firearms (ATF): 650 Massachusetts Avenue, NW, Washington, DC 20226.

(3) Office of the Comptroller of the Currency (OCC): 250 E Street, NW, Washington, DC 20219-0001.

(4) United States Customs Service (CS): 1301 Constitution Avenue, NW, Washington DC 20229.

(5) Bureau of Engraving and Printing (BEP): 14th & C Streets, SW, Washington, DC 20228.

(6) Federal Law Enforcement Training Center (FLETC): Glynco, Ga. 31524.

(7) Financial Management Service (FMS): 401 14th Street, SW, Washington, DC 20227.

(7) Internal Revenue Service (IRS): 1111 Constitution Avenue, NW, Washington, DC 20224.

(8) United States Mint (MINT): Judiciary Square Building, 633-3rd Street, NW Washington, DC 20220.

(9) Bureau of the Public Debt (BPD): 999-E Street, NW, Washington, DC 20239.

(10) United States Secret Service (USSS): 950 H Street, NW, Washington, DC 20001.

(11) Office of Thrift Supervision (OTS): 1700 G Street, NW.,Washington, DC 20552.

* * * * *

Description of change: Immediately preceding the heading, “Routine Uses of Records Maintained in the System Including Categories of Users and the Purposes of Such Uses,” add the following entry:

Purpose(s):

To adjudicate employee administrative grievances filed under the authority of 5 CFR Part 771 and the Department's Administrative Grievance Procedure.

* * * * *

Description of change: Remove the current entry and add the following:

System manager(s) and address:

Records pertaining to administrative grievances filed at the Departmental level: Director, Office of Personnel Policy, 1500 Pennsylvania Ave., NW., Metropolitan Square, Washington, DC 20220. Records pertaining to administrative grievances filed at the bureau level:

(1)a. DO: Chief, Personnel Resources, 1500 Pennsylvania Ave. NW., Metropolitan Square, Washington, DC 20220.

b. OIG: Personnel Officer, 740-15th St. NW, Rm. 510, Washington, DC 20220.

c. TIGTA: National Director, Human Resources, 1111 Constitution Ave. NW, Rm. 6408, TIGTA: MRS, Washington, DC 20224.

(2) ATF: Chief, Personnel Division, 650 Massachusetts Ave. NW, Rm. 4100, Washington, DC 20226.

(3) OCC: Director, Human Resources, 250 E Street, SW, Washington, DC 20219.

(4) Customs: Assistant Commissioner, Office of Human Resources Management, Ronald Reagan Building, Room 2.4A, 1300 Pennsylvania Avenue, NW, Washington, DC 20229.

(5) BEP: Chief, Office of Human Resources, 14th & C Streets, SW, Room 202-13A, E&P Annex, Washington, DC 20228.

(6) FLETC: Human Resources Officer, Glynco, GA 31524.

(7) FMS: Director, Personnel Management Division, 3700 East West Hwy, Room 115-F, Hyattsville, MD 20782.

(8) IRS: Director, Office of Workforce Relations (M:S:L) 1111 Constitution Ave. NW, Room 1515IR, Washington, DC 20224.

(9) Mint: Assistant Director for Human Resources, 801 9th Street, NW, 6th Floor, Washington, DC 20220

(10) BPD: Director, Human Resources Division, 200 Third Street, Parkersburg, WV 26106-1328.

(11) USSS: Chief, Personnel Division, 950 H Street, NW, Suite 7000, Washington, DC 20373-5802.

(12) OTS: Director, Human Resources Division, 2nd Floor, 1700 G Street, NW, Washington, DC 20552.”

* * * * *

Treasury/DO .010

System name:

Office of Domestic Finance, Actuarial Valuation System—Treasury/DO.

* * * * *

Description of change: Immediately preceding the heading, “Routine Uses of Records Maintained in the System Including Categories of Users and the Purposes of Such Uses,” add the following entry:

Purpose(s):

Public Law 95-595 requires that annual actuarial valuations be conducted for Federal retirement systems. In order to satisfy this requirement, participant data must be collected so that liabilities for the Foreign Service Retirement and Disability System and the Foreign Service Pension System can be actuarially determined.

* * * * *

Treasury/DO .060

System name:

Correspondence Files and Records on Employee Complaints and/or Dissatisfaction—Treasury/DO.

* * * * *

Description of change: Immediately preceding the heading, “Routine Uses of Records Maintained in the System Including Categories of Users and the Purposes of Such Uses,” add the following entry:

Purpose(s):

To maintain a record of correspondence related to employee complaints filed with the Departmental Office of Personnel Policy.

* * * * *

Description of change: Remove the current entry and add the following:

System Manager(s) and address:

Director, Office of Personnel Policy, Department of the Treasury, Washington, DC 20220.

* * * * *

Treasury/DO .149

System name:

Foreign Assets Control Legal Files—Treasury/DO.

* * * * *

Description of change: Immediately preceding the heading, “Routine Uses of Records Maintained in the System Including Categories of Users and the Purposes of Such Uses,” insert the following entry:

Purpose(s):

These records are maintained to assist in providing legal advice to the Office of Foreign Assets Control and the agency regarding issues of compliance, enforcement, investigation, and implementation matters related to the Office of Foreign Assets Control and the statutes and regulations administered by the agency. These records are also maintained to assist in litigation related to the Office of Foreign Assets Control and the statutes and regulations administered by the agency.

* * * * *

Treasury/DO .156

System name:

Tax Court Judge Applicants—Treasury/DO.

* * * * *

Description of change: Immediately preceding the heading, “Routine Uses of Records Maintained in the System Including Categories of Users and the Purposes of Such Uses,” add the following entry:

Purpose(s):

To maintain records about candidates for appointment to the Tax Court in order to make recommendations to the President.

* * * * *

Treasury/DO .183

System name:

Private Relief Tax Bill Files—Treasury/DO.

* * * * *

Description of change: Immediately preceding the heading, “Routine Uses of Records Maintained in the System Including Categories of Users and the Purposes of Such Uses,” add the following entry:

Purpose(s):

The files of private relief tax bills contain records of policy positions and issues involved in Congressional private relief tax bills.

* * * * *

Treasury/DO .190

Description of change: Remove the current title “General Allegations and Investigative Records—Treasury/DO.” and add the following:

System name:

Investigation Data Management System—Treasury/DO.

Description of change: Remove the current entry and add the following:

System location:

Office of Inspector General (OIG), Assistant Inspector General for Investigations, 740 15th St., NW, Suite 500, Washington, DC 20220; Field Offices in Alexandria, VA; Marlton, NJ; Houston, TX; Los Angeles, CA; San Diego, CA; Miami, FL, and Chicago, IL. Addresses may be obtained from the system manager.

* * * * *

Description of change: Remove the current entry and add the following:

System Manager(s) and Address:

Assistant Inspector General for Investigations, 740 15th St., NW, Suite 500, Washington, DC 20220.

* * * * *

Treasury/DO .191

Description of change: Remove the current title “OIG Management Information System (MIS)” and add the following:

System name:

Human Resources and Administrative Records System—Treasury/DO.

* * * * *

Description of change: Remove the current entry and add the following:

Categories of records in the system:

(1) Personnel system records contain OIG employee name, office, start of employment, series/grade, title, separation date; (2) Tracking records contain status information on audits, investigations and other projects from point of request or annual planning through follow-up and closure; (3) Timekeeping records contain assigned projects and distribution of time; (4) Equipment inventory records contain assigned equipment; (5) Travel records contain dates, type of travel and costs; (6) Training records contain dates, title of training, and costs.

* * * * *

Description of change: Remove the current entry and add the following:

Purpose(s):

The purpose of the system is to: (1) manage effectively OIG resources and projects; (2) capture accurate statistical data for mandated reports to the Secretary of the Treasury, the Congress, the Office of Management and Budget, the General Accounting Office, the President's Council on Integrity and Efficiency and other Federal agencies; and (3) provide accurate information critical to the OIG's daily operation, including employee performance and conduct.

* * * * *

Description of change: Remove the current entry and add the following:

Safeguards:

Access is limited to OIG employees who have a need for such information in the course of their work. A central network server is password protected by account name and user password. Access to records on magnetic media is controlled by computer passwords. Access to specific system records is further limited and controlled by computer security programs limiting access to authorized personnel.

* * * * *

Description of change: Remove the current entry and add the following:

System Manager(s) and Address:

Assistant Inspector General for Management Services, 740 15th St. NW, Suite 510, Washington, D. C. 20220.

* * * * *

Description of change: Remove the current entries and add the following:

Appendix A—Addresses of OIG Offices.

HEADQUARTERS: Department of the Treasury, Office of Inspector General, Office of the Assistant Inspector General for Management Services, 740 15th Street, NW, Suite 510, Washington, D. C. 20220.

FIELD LOCATIONS: Contact System Manager for addresses.

Department of the Treasury, Office of Inspector General, (Offices of Audit and Investigations), El Segundo, CA 90245-4320.

Department of the Treasury, Office of Inspector General, Office of Investigations, San Diego, CA 92101.

Department of the Treasury, Office of Inspector General, Office of Audit, San Francisco, CA 94105.

Department of the Treasury, Office of Inspector General, Offices of Audit and Investigations, Miami, FL 33166-7710.

Department of the Treasury, Offices of Audit and Investigations, Chicago, IL 60690.

Department of the Treasury, Office of Inspector General, Office of Audit, Indianapolis, IN 46278.

Department of the Treasury, Office of Inspector General, Office of Audit, New Orleans, LA 70130.

Department of the Treasury, Office of Inspector General, Office of Audit, Boston, MA 02110.

Department of the Treasury, Office of Inspector General, Offices of Audit and Investigations, Marlton, NJ 08053.

Department of the Treasury, Office of Inspector General, Offices of Audit and Investigations, Houston, TX 77057.

Department of the Treasury, Office of Inspector General, Office of Investigations, Alexandria, VA 22314.

* * * * *

Treasury/DO .193

System name:

Employee Locator and Automated Directory System—Treasury/DO.

* * * * *

Description of change: Immediately preceding the heading, “Routine Uses of Records Maintained in the System Including Categories of Users and the Purposes of Such Uses,” add the following entry:

Purpose(s):

The Employee Locator and Automated Directory System is maintained for the purpose of providing current locator and emergency information on all DO employees.

* * * * *

Description of change: Remove the current entry and add the following:

Retrievability:

Indexed by name.

* * * * *

Description of change: Remove the current entry and add the following:

System manager(s) and address:

Manager, Telephone Operator Services Branch, 1500 Pennsylvania Ave., NW, Washington, DC 20220.

* * * * *

Treasury/DO .200

System name:

FinCEN Data Base—Treasury/DO.

* * * * *

Description of change: Immediately preceding the heading, “Routine Uses of Records Maintained in the System Including Categories of Users and the Purposes of Such Uses,” add the following entry:

Purpose(s):

The purpose of this system of records is to support FinCEN's efforts to provide a government-wide, multi-source intelligence and analytical network to support the detection, investigation, and prosecution of domestic and international money laundering and other financial crimes, and other domestic and international criminal, tax, and regulatory matters.

* * * * *

Treasury/DO .210

System name:

Treasury Integrated Financial Management and Revenue System—Treasury/DO

Description of change: Remove the current entry and add the following:

System Location:

Department of the Treasury, 1500 Pennsylvania Ave., NW, Washington, DC 20220. The locations at which the system is maintained by Treasury components and their associated field offices are:

(1) a. Departmental Offices (DO): 1500 Pennsylvania Ave., NW, Washington, DC 20220.

b. The Office of Inspector General (OIG): 740 15th Street, NW, Washington, D. C. 20220.

c. Treasury Inspector General for Tax Administration (TIGTA): 1111 Constitution Ave., NW, Washington, DC 20224.

(2) Bureau of Alcohol, Tobacco and Firearms (ATF): 650 Massachusetts Avenue, NW, Washington, D.C. 20226.

(3) Office of the Comptroller of the Currency (OCC): 250 E Street, NW, Washington, DC 20219-0001.

(4) United States Customs Service (CS): 1301 Constitution Avenue, NW, Washington D.C. 20229.

(5) Bureau of Engraving and Printing (BEP): 14th & C Streets, SW, Washington, D.C. 20228.

(6) Federal Law Enforcement Training Center (FLETC): Glynco, Ga. 31524.

(7) Financial Management Service (FMS): 401 14th Street, SW, Washington, D.C. 20227.

(7) Internal Revenue Service (IRS): 1111 Constitution Avenue, NW, Washington, D.C. 20224.

(8) United States Mint (MINT): Judiciary Square Building, 633-3rd Street, NW Washington, D.C. 20220.

(9) Bureau of the Public Debt (BPD): 999-E Street, NW, Washington, D.C. 20239.

(10) United States Secret Service (USSS): 950 H Street, NW, Washington, D.C. 20001.

(11) Office of Thrift Supervision (OTS): 1700 G Street, NW.,Washington, D.C. 20552.

* * * * *

Description of change: Remove the current entry for the Assistant Inspector General for Resources and replace it with the following:

* * * * *

System Manager(s) and Address:

OIG: Assistant Inspector General for Management Services, 740 15th St. NW., Suite 510, Washington, DC 20220.

* * * * *

Treasury/DO .211

System name:

Telephone Call Detail Records—Treasury/DO

Description of change: Remove the current entry and add the following:

System Location:

Department of the Treasury, 1500 Pennsylvania Ave., NW, Washington, DC 20220. The locations at which the system is maintained by Treasury components and their associated field offices are:

(1) a. Departmental Offices (DO): 1500 Pennsylvania Ave., NW, Washington, DC 20220.

b. The Office of Inspector General (OIG): 740 15th Street, NW, Washington, D. C. 20220.

c. Treasury Inspector General for Tax Administration (TIGTA): 1111 Constitution Ave., NW, Washington, DC 20224.

(2) Bureau of Alcohol, Tobacco and Firearms (ATF): 650 Massachusetts Avenue, NW, Washington, D.C. 20226.

(3) Office of the Comptroller of the Currency (OCC): 250 E Street, NW, Washington, DC 20219-0001.

(4) United States Customs Service (CS): 1301 Constitution Avenue, NW, Washington D.C. 20229.

(5) Bureau of Engraving and Printing (BEP): 14th & C Streets, SW, Washington, D.C. 20228.

(6) Federal Law Enforcement Training Center (FLETC): Glynco, Ga. 31524.

(7) Financial Management Service (FMS): 401 14th Street, SW, Washington, D.C. 20227.

(7) Internal Revenue Service (IRS): 1111 Constitution Avenue, NW, Washington, D.C. 20224.

(8) United States Mint (MINT): Judiciary Square Building, 633-3rd Street, NW Washington, D.C. 20220.

(9) Bureau of the Public Debt (BPD): 999-E Street, NW, Washington, D.C. 20239.

(10) United States Secret Service (USSS): 950 H Street, NW, Washington, D.C. 20001.

(11) Office of Thrift Supervision (OTS): 1700 G Street, NW.,Washington, D.C. 20552.

* * * * *

Description of change: Remove the current entry for the OIG and replace it with the following:

* * * * *

System manager(s) and address:

* * * * *

Assistant Inspector General for Management Services, 740 15th St. NW., Suite 510, Washington, DC 20220.

* * * * *

[FR Doc. 00-22261 Filed 8-30-00; 8:45 am]

BILLING CODE 4810-25-P